DEPARTMENT OF HOMELAND SECURITY

Federal Emergency Management Agency

[Docket ID FEMA-2015-0001]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: February 11, 2015.
Roy E. Wright,
Deputy Associate Administrator for Mitigation, Department of Homeland Security, Federal Emergency Management Agency.

State and county | Location and case No. | Chief executive officer of community | Community map repository | Effective date of modification | Community No.
Maryland:
Worcester (FEMA Docket No.: B-1444) | Town of Ocean City (14-03-1372P) | The Honorable Richard W. Meehan, Mayor, Town of Ocean City, P.O. Box 158, Ocean City, MD 21843 | Planning and Zoning Division, 301 North Baltimore Avenue, Ocean City, MD 21842 | December 26, 2014 | 245207
Worcester (FEMA Docket No.: B-1444) | Town of Ocean City (14-03-1373P) | The Honorable Richard W. Meehan, Mayor, Town of Ocean City, P.O. Box 158, Ocean City, MD 21843 | Planning and Zoning Division, 301 North Baltimore Avenue, Ocean City, MD 21842 | December 26, 2014 | 245207
Worcester (FEMA Docket No.: B-1444) | Town of Ocean City (14-03-1375P) | The Honorable Richard W. Meehan, Mayor, Town of Ocean City, P.O. Box 158, Ocean City, MD 21843 | Planning and Zoning Division, 301 North Baltimore Avenue, Ocean City, MD 21842 | December 26, 2014 | 245207
New Mexico:
Bernalillo (FEMA Docket No.: B-1444) | City of Albuquerque (14-06-0305P) | The Honorable Richard J. Berry, Mayor, City of Albuquerque, P.O. Box 1293, Albuquerque, NM 87103 | Development and Review Services Division, 600 2nd Street Northwest, Suite 201, Albuquerque, NM 87102 | January 2, 2015 | 350002
Bernalillo (FEMA Docket No.: B-1444) | Unincorporated areas of Bernalillo County (14-06-0097P) | The Honorable Debbie O'Malley, Chairman, Bernalillo County Board of Commissioners, 1 Civic Plaza Northwest, Albuquerque, NM 87102 | Bernalillo County Public Works Division, 2400 Broadway Boulevard Southeast, Albuquerque, NM 87102 | December 26, 2014 | 350001
Texas:
Burnet (FEMA Docket No.: B-1432) | City of Horseshoe Bay (14-06-4634P [reissued 13-06-4634P]) | The Honorable Steve Jordon, Mayor, City of Horseshoe Bay, P.O. Box 7765, Horseshoe Bay, TX 78657 | City Hall, 1 Community Drive, Horseshoe Bay, TX 78657 | November 26, 2014 | 480149
Dallas (FEMA Docket No.: B-1444) | City of Farmers Branch (14-06-0555P) | The Honorable Bob Phelps, Mayor, City of Farmers Branch, 13000 William Dodson Parkway, Farmers Branch, TX 75234 | City Hall, 13000 William Dodson Parkway, Farmers Branch, TX 75234 | January 2, 2015 | 480174
Dallas (FEMA Docket No.: B-1444) | Town of Addison (14-06-0555P) | The Honorable Todd Meier, Mayor, Town of Addison, P.O. Box 9010, Addison, TX 75001 | Public Works Department, 16801 Westgrove Drive, Addison, TX 75001 | January 2, 2015 | 481089
El Paso (FEMA Docket No.: B-1437) | City of El Paso (14-06-0412P) | The Honorable Oscar Leeser, Mayor, City of El Paso, 300 North Campbell Street, El Paso, TX 79901 | Land Development, 801 Texas Avenue, El Paso, TX 79901 | November 28, 2014 | 480214
El Paso (FEMA Docket No.: B-1432) | City of El Paso (14-06-2375P) | The Honorable Oscar Leeser, Mayor, City of El Paso, 300 North Campbell Street, El Paso, TX 79901 | Land Development, 801 Texas Avenue, El Paso, TX 79901 | October 27, 2014 | 480214
El Paso (FEMA Docket No.: B-1441) | Unincorporated areas of El Paso County (14-06-1602P) | The Honorable Veronica Escobar, El Paso County Judge, 500 East San Antonio Avenue, Suite 301, El Paso, TX 79901 | El Paso County Public Works Department, 800 East Overland Avenue, Suite 407, El Paso, TX 79901 | December 12, 2014 | 480212
Galveston (FEMA Docket No.: B-1444) | City of League City (13-06-3403P) | The Honorable Timothy Paulissen, Mayor, City of League City, 300 West Walker Street, League City, TX 77573 | Planning Department, 1535 Dickinson Avenue, League City, TX 77573 | December 26, 2014 | 485488
Harris (FEMA Docket No.: B-1444) | Unincorporated areas of Harris County (14-06-3038P) | The Honorable Ed M. Emmett, Harris County Judge, 1001 Preston Street, Suite 911, Houston, TX 77002 | Harris County Permits Office, 10555 Northwest Freeway, Suite 120, Houston, TX 77092 | December 26, 2014 | 480287
Llano (FEMA Docket No.: B-1432) | Unincorporated areas of Llano County (14-06-4634P [reissued 13-06-4634P]) | The Honorable Wayne Brascom, Llano County Judge, 801 Ford Street, Room 101, Llano, TX 78643 | Llano County Courthouse, 801 Ford Street, Llano, TX 78643 | November 26, 2014 | 481234
Tarrant (FEMA Docket No.: B-1444) | City of Hurst (14-06-1807P) | The Honorable Richard Ward, Mayor, City of Hurst, 1505 Precinct Line Road, Hurst, TX 76054 | Public Works Administration Office, 1505 Precinct Line Road, Hurst, TX 76054 | December 29, 2014 | 480601

[FR Doc. 2015-05070 Filed 3-4-15; 8:45 am]

BILLING CODE 9110-12-P